DEPARTMENT OF AGRICULTURE

Natural Resources Conservation Service

Forest Service

Notice of Meeting

SUMMARY: Maintaining Agriculture and Forestry in Rapidly Growing Areas Listening Forums hosted by members of the USDA Policy Advisory Committee on Farmland Protection. The USDA Policy Advisory Committee on Farm and Forest Lands Protection is holding listening forums this summer to solicit policy feedback and anecdotal information on what works and what doesn't from a community's perspective in working with federal tools designed to maintain land as farmland and forest land. The input received from these forums will be synthesized into a report that USDA will issue on this subject later this year.

Specifically, the forums will ask for public comment on the following questions:

1. What are the economic, environmental and social benefits of farms and forested lands for communities, especially those in rapidly growing regions?

2. What are the challenges that communities and individuals face in trying to maintain farms and forested lands, especially in rapidly growing areas;

3. What sorts of opportunities exist to capitalize on market opportunities (e.g. direct marketing and agri-tourism) to encourage maintenance of farmland and forestland.

4. What role could the federal government play to better support farmers and forest operators in taking advantage of these opportunities?

DATES: The first forum will convene Thursday, July 13, 2000, at 9:00 a.m. and conclude at 12:00 p.m.. It will be held at the Dekalb County Farm Bureau Center for Agriculture, 1350 West Prairie Drive, Sycamore, Illinois 60178. The second forum is scheduled for Friday, July 21, 2000, beginning at 9:00 a.m. and continuing until 12:00 p.m., at the University of California, Davis, Alumni and Visitors Center, in Room AGR, located on Old Davis Road and Mrak Hall Drive, Davis California. The third forum will be in late July in Seattle, Washington (location to be determined). And, a fourth forum will be held early August in the Highlands Region in New Jersey (Date and location to be determined). Three informational gathering sessions are being considered.

ADDRESSES: Are included in the above information under DATES.

SUPPLEMENTARY INFORMATION: Notice of these forums is given under the Federal Advisory Committee Act, 5 U.S.C. App. 2. Additional information about the USDA Policy Advisory Committee, including any revised agendas for the July 13 and 21, 2000 forums that may appear after this Federal Register Notice is published, may be found on the World Wide Web at http://www.usda.gov.

Draft Agenda for the Forums

A. Opening remarks

B. Panel presentations

C. Public participation: oral statements, questions and answer period.

D. Closing remarks

Procedural

The forums are open to the general public. Members of the general public will have an opportunity to present their ideas and opinions during each forum. Persons wishing to make oral statements should pre-register by contacting Ms. Mary Lou Flores at (202) 720-4525. Those who wish to submit written statements can do so by submitting 25 copies of their statements on or before July 11, 2000 for the Dekalb County, IL forum, on or before July 17, 2000 for the UC Davis, CA forum, and on or before July 20, 2000 for the Seattle, WA forum. Please send them to Ms. Stacie Kornegay, Natural Resources Conservation Service, P.O. Box 2890, Washington, DC 20013, Room 6013. The written form of the oral statements must not exceed 5 pages in 12-point pitch. At each forum, reasonable provisions will be made for oral presentations of no more than three minutes each in duration.

FOR FURTHER INFORMATION CONTACT: Requests for special accommodations due to disability, questions or comments should be directed to Rosann Durrah, Designated Federal Official, telephone (202) 720-4072, fax (202) 690-0639, email rosann.durrah@usda.gov.

Dated: June 26, 2000.
Anne Keys,
Acting Under Secretary, Natural Resources and Environment, USDA.

[FR Doc. 00-16600 Filed 6-29-00; 8:45 am]

BILLING CODE 3410-16-P